NATIONAL FOUNDATION FOR THE ARTS AND HUMANITIES

Institute of Museum and Library Services; Submission to OMB for Review, Comment Request, Proposed Collection: User Satisfaction With Access to Government Information and Services at Public Libraries and Public Access Computing Centers

Summary: The Institute of Museum and Library Services announces the following information collection has been submitted to the Office of Management and Budget for review and approval in accordance with the Paperwork Reduction Act of 1995 (Pub. L. 104-13, 44 U.S.C. Chapter 35). This program helps to ensure that requested data can be provided in the desired format, reporting burden (time and financial resources) is minimized, collection instruments are clearly understood, and the impact of collection requirements on respondents can be properly assessed. Currently the Institute of Museum and Library Services is soliciting comments concerning a research study to assess user satisfaction with access to government information and services at public libraries and public access computing centers.

Dates: Comments must be received by April 16, 2007. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

This proposed collection is to collect information via surveys regarding the public's experience with finding government information and the types of programs public libraries and community technology centers provide to help users.

Dates: Comments must be received by April 16, 2007. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Addresses: A copy of the data collection forms and supporting documentation may be obtained by contacting Barbara G. Smith, E-Projects Officer, Institute of Museum and Library Services, 1800 M St., NW., 9th floor, Washington, DC 20036. She can be reached by telephone (202/653-4688) or via e-mail (bsmith@imls.gov.)

Background

The Institute of Museum and Library Services is an independent Federal grant-making agency authorized by the Museum and Library Services Act, Public Law 104-208, as amended. The IMLS provides a variety of grant programs to assist the nation's museums and libraries in improving their operations and enhancing their services to the public. Museums and libraries of all sizes and types may receive support from IMLS programs. Public Law 104-208 authorizes the Director of the Institute of Museum and Library Services to carry out and publish analyses that shall identify national needs for, and trends of, museum and library services; report on the impact and effectiveness of programs conducted with funds made available by the Institute; and identify and disseminate information on the best practices of such programs.

The E-Government Act of 2002 called for the promotion of access to the Internet to provide increased opportunities for citizen participation in government, and an interagency committee issued a report looking at disparities in Internet access across a demographic spectrum. Few studies, however, have looked at the kinds of assistance (training, tutorials, classes, reference services) that users are receiving when looking for federal, state, and local government information and services, whether via the Internet or through traditional means (walk-in, mail, telephone), and whether users are satisfied with the assistance that they are receiving from public libraries and public access computing centers. In order to address this critical information gap and to enhance the quality of library services nationwide, the Institute of Museum and Library Services (IMLS) has undertaken a study to better understand how users are accessing federal, state, and local government information and services and what kinds of assistance public libraries and other public access computing centers are offering to users seeking government information and services. IMLS is conducting a research study on how the part of the population with limited access to Internet resources (individuals who do not have broadband access from home, work, or school; who choose to access government services and information from locations other than home, work, or school; or who do so through traditional means of access) accesses federal, state and local government services and information, and whether such users are satisfied with the information and services they are able to access. Additionally, the study examines the ways that public libraries and public access computing centers provide assistance (e.g., reference services, tutorials, classes, training to users seeking federal, state, and local government information and services.

Agency: Institute of Museum and Library Services.

Title: User Satisfaction with Access to Government Information and Services at Public Libraries and Public Access Computing Centers.

OMB Number: none.

Agency Number: 3137.

Frequency: once.

Affected Public: general public, public libraries, public access computing centers.

Number of Respondents: 5,650.

Estimated Time Per Respondent: 0.29 hour.

Total Burden Hours: 1,621 hours.

Total Annualized capital/startup costs: n/a.

Total Annual Costs: $40,479.

Contact. Comments should be sent to Office of Information and Regulatory Affairs, Attn.: OMB Desk Officer for Education, Office of Management and Budget, Room 10235, Washington, DC 20503. (202) 395-7316.

Dated: March 12, 2007.
Barbara G. Smith,
E-Projects Officer.

[FR Doc. E7-4819 Filed 3-15-07; 8:45 am]

BILLING CODE 7036-01-P